DEPARTMENT OF THE INTERIOR

Fish and Wildlife Service

Receipt of an Incidental Take Permit Application and Availability of an Environmental Assessment Associated With the Habitat Management Plan for Natural Communities in the City of Carlsbad, California

AGENCY: Fish and Wildlife Service.

ACTION: Notice.

SUMMARY: The City of Carlsbad, California, has applied to the Fish and Wildlife Service (Service) for an incidental take permit pursuant to section 10(a)(1)(B) of the Endangered Species Act of 1973, as amended (Act). The proposed 50-year permit would authorize incidental take of 9 federally threatened and endangered wildlife species, 8 threatened and endangered plants should take authorization be necessary, and 30 unlisted species of concern in the event that these species become listed during the term of the permit. Take would occur incidental to urban development of up to 3,051 acres of non-federal land in the City of Carlsbad, northwestern San Diego County, California. The permit application includes the Habitat Management Plan for Natural Communities in the City of Carlsbad (Habitat Management Plan) and an Implementation Agreement that serves as a legal contract.

An Environmental Assessment for our proposed action of issuing a permit to the City of Carlsbad is available for public review. We request comments on this Assessment and the permit application. All comments received, including names and addresses, will become part of the administrative record and may be made available to the public.

DATES: We must receive your written comments on or before July 28, 2000.

ADDRESSES: Send comments to Mr. Ken Berg, Field Supervisor, U.S. Fish and Wildlife Service, Carlsbad Fish and Wildlife Office, 2730 Loker Avenue West, Carlsbad, California 92008. You also may submit comments by facsimile to (760) 431-9618.

FOR FURTHER INFORMATION CONTACT: Ms. Julie Vanderwier, Fish and Wildlife Biologist, at the above address; telephone (760) 431-9440.

SUPPLEMENTARY INFORMATION:

Availability of Documents

You may request copies of the documents by contacting the office listed above. You also may view the documents, by appointment, during normal business hours (8 a.m. to 5 p.m.), Monday through Friday at the Carlsbad Fish and Wildlife Office (see ADDRESSES). Alternatively, you may view the documents at the City of Carlsbad Planning Department, 1635 Faraday Avenue, Carlsbad; at the Georgina Cole Library, 1250 Carlsbad Village Drive, Carlsbad; and at the La Costa Library, 1775 Dove Lane, Carlsbad.

Background

Section 9 of the Act and Federal regulation prohibit the “take” of animal species listed as endangered or threatened. That is, no one may harass, harm, pursue, hunt, shoot, wound, kill, trap, capture or collect listed animal species, or attempt to engage in such conduct (16 U.S.C. 1538). “Harm” is defined by regulation to include significant habitat modification or degradation that actually kills or injures wildlife by significantly impairing essential behavioral patterns, including breeding, feeding, or sheltering (50 CFR 17.3). Under certain circumstances, the Service may issue permits to authorize “incidental” take of listed animal species (defined by the Act as take that is incidental to, and not the purpose of, the carrying out of an otherwise lawful activity). Regulations governing permits for threatened and endangered species, respectively, are at 50 CFR 17.32 and 50 CFR 17.22.

The City of Carlsbad has submitted an application for a 50-year incidental take permit to the Service, proposing the take of 47 species now or in the future, on approximately 3,051 acres of habitat within the 24,570-acre planning area (15,812 acres of which are already developed). The proposed permit would authorize incidental take of the following listed animals: Riverside fairy shrimp (Streptocephalus woottoni), San Diego fairy shrimp (Branchinecta sandiegonensis), California brown pelican (Pelecanus occidentalis californicus), California least tern (Sterna antillarum browni), coastal California gnatcatcher (Polioptila californica californica), least Bell's vireo (Vireo bellii pusillus), light-footed clapper rail (Rallus longirostrus levipes), southwestern willow flycatcher (Empidonax traillii extimus), and western snowy plover (Charadrius alexandrinus nivosus). For 30 other unlisted species (16 plants, 3 invertebrates, 1 reptile, and 10 birds), should they become listed during the term of the permit, the permit would become effective at the time of listing.

Five endangered plants and three threatened plants would be named on the permit, should take authorization be necessary: California orcutt grass (Orcuttia californica), Del Mar manzanita (Arctostaphylos glandulosa ssp. crassifolia), Encinitas baccharis (Baccharis vanessae), Orcutt's spineflower (Chorizanthe orcuttiana), spreading navaretia (Navarretia fossalis), San Diego button-celery (Eryngium aristulatum var. parishii), San Diego thornmint (Acanthomintha ilicifolia), and thread-leaved brodiaea (Brodiaea filifolia). The take prohibitions of the Act do not apply to listed plants on private land unless their destruction on private land is in violation of State law. Nevertheless, the City of Carlsbad has considered plants in its Habitat Management Plan and requests a permit for them to the extent that State law applies.

The permit application from the City of Carlsbad includes a Habitat Management Plan that qualifies both as a Habitat Conservation Plan pursuant to Federal law and as a Natural Community Conservation Plan pursuant to State law. On December 10, 1993, the Service issued a final special rule for the coastal California gnatcatcher pursuant to section 4(d) of the Act (58 FR 65088). The rule allows incidental take of the gnatcatcher if such take results from activities conducted under a plan prepared pursuant to the state of California's Natural Community Conservation Planning Act of 1991, its associated Process Guidelines, and the Southern California Coastal Sage Scrub Conservation Guidelines. Consistent with the Conservation Guidelines, while planning for natural communities is underway, the special rule allows interim loss of no more than 5 percent of the coastal sage scrub habitat in specified areas (subregions).

To mitigate the impact of urban development over a 50-year period, the City of Carlsbad would require project-level impact avoidance and minimization measures, and would assemble a preserve of approximately 6,757 acres. This preserve would be comprised of existing open space (3,946 acres), proposed hardline open space (1,206 acres), planned open space derived from specific criteria applied to standards areas (553 acres), passive restoration of disturbed habitat (744 acres), and acquisition of core coastal California gnatcatcher habitat outside of the City (308 acres). The preserve would contain the following habitats, at a minimum: coastal sage scrub (3,315 acres), southern mixed/chamise chaparral (968 acres), southern maritime chaparral (392 acres), oak woodland (29 acres), riparian (574 acres), coastal salt/freshwater marsh (1,366 acres), and grassland (1,856 acres).

Should the Service approve the Habitat Management Plan and issue an incidental take permit to the City of Carlsbad, the 5 percent limit on interim loss of coastal sage scrub, imposed as part of the Natural Community Conservation Planning Program and the special rule for the gnatcatcher, would be replaced by the conditions of the permit and the Implementation Agreement. Carlsbad would then exercise its land-use review and approval powers in accordance with the Implementation Agreement to implement the Habitat Management Plan and assemble its preserve. The City would amend its zoning regulations to reflect the preserve boundaries and to achieve consistency with the Plan. In addition, the Habitat Management Plan includes guidelines for compatible land uses in and adjacent to the preserve. The City would incorporate these guidelines into its General Plan, zoning regulations, and approval process for projects, including adoption of appropriate mitigation guidelines.

Our Environmental Assessment considers the proposed action and three alternatives: the Habitat Management Plan as proposed; an Expanded Preserve System Alternative; an Offsite Regional Conservation Alternative; and a No Action Alternative. Under the Expanded Preserve System Alternative, the Service would issue a permit that would authorize incidental take of 47 species in the plan area. The City of Carlsbad would require project-level impact avoidance and minimization measures. The expanded preserve of 7,310 acres would conserve all extant natural habitats in biological core and linkage areas identified during the preserve planning process. The acquisition of lands within the core gnatcatcher areas would be limited to the 240 acres required as part of the approval of the Fieldstone-La Costa Habitat Conservation Plan. The conserved habitat would include, at a minimum, the following habitat types: coastal sage scrub (2,991 acres), southern mixed/chamise chaparral (887 acres), southern maritime chaparral (431 acres), oak woodland (29 acres), riparian (518 acres), coastal salt/freshwater marsh (1,183 acres), and grassland (1,271 acres).

Under the Offsite Regional Conservation Alternative, the Service also would issue a permit for incidental take of 47 species. The City of Carlsbad would preserve 7,901 to 9,928 acres of habitat through the management of already preserved lands within the City, implementation of project-level impact avoidance and minimization measures, and habitat conservation outside of the City (with the exception of wetland, riparian, and vernal pool resources) in accordance with established mitigation ratios. The majority of the preserve could be outside of the City of Carlsbad in portions of northern San Diego County that are less developed than Carlsbad. The preserve would include, at a minimum, the following upland habitat types: coastal sage scrub (3,315 to 5,342 acres), southern mixed/chamise chaparral (968 acres), southern maritime chaparral (666 acres), oak woodland (79 acres), and grassland (1,127 acres).

Under the No Action Alternative, the Service would not issue a permit and the City of Carlsbad would not implement its Habitat Management Plan. Projects would either be designed to avoid take of listed species or project proponents would apply for individual permits under section 10(a)(1)(B) of the Act. Existing hardline open space would remain protected and approved habitat conservation plans would be implemented. Under this alternative, we estimate that 3,850 acres of habitat would be conserved.

This notice is provided pursuant to section 10(a) of the Endangered Species Act and regulations for implementing the National Environmental Policy Act of 1969 (40 CFR 1506.6). We will evaluate the permit application, Environmental Assessment, associated documents, and comments submitted thereon to determine whether the application meets the requirements of section 10(a) of the Endangered Species Act. If we determine that the requirements are met, we will issue a permit for the incidental take of the 47 species covered by the Habitat Management Plan. We will make a decision on permit issuance no sooner than 30 days from the date of this notice.

Dated: June 20, 2000.
Elizabeth H. Stevens,
Deputy Manager, Region 1, California/Nevada Operations Office, Sacramento, California.

[FR Doc. 00-16281 Filed 6-27-00; 8:45 am]

BILLING CODE 4310-55-P